DEPARTMENT OF HEALTH AND HUMAN SERVICES

Centers for Medicare & Medicaid Services

[Document Identifier CMS-179, CMS-10221, CMS-10408, and CMS-R-245]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: State Plan Under Title XIX of the Social Security Act (Base plan pages, Attachments, Supplements to attachments); Use: State Medicaid agencies complete the plan pages and CMS reviews the information to determine if the State has met all of the provisions that the State has chosen to implement. If the requirements are met, CMS will approve the amendments to the State's Medicaid plan giving the State the authority to implement the flexibilities. For a State to receive Medicaid Title XIX funding, there must be an approved Title XIX State plan; Form Number: CMS-179 (OCN 0938-0193); Frequency: Occasionally; Affected Public: State, Local, or Tribal Governments; Number of Respondents: 56; Total Annual Responses: 1,120; Total Annual Hours: 400. (For policy questions regarding this collection contact Candice Payne at (410) 786-4453. For all other issues call (410) 786-1326.)

2. Type of Information Collection Request: Reinstatement without change of a previously approved collection ; Title of Information Collection: Worksheet for Recording Results of Medicare Site Visits of Independent Diagnostic Testing Facilities (IDTFs); Use: The worksheet (form) was developed, approved by the Office of Management and Budget, and implemented to provide CMS with a standard format to collect and verify information regarding the compliance of IDTFs with the performance standards found in 42 CFR 410.33(g). This previously approved form was allowed to expire in error. CMS is now seeking to reinstate the use of this form.

The worksheet is used to collect and record information obtained on IDTF site visits; the data collected during site visits facilitates the verification of the accuracy and completeness of the information the IDTF furnished on its CMS-855B enrollment application. The worksheet is completed by CMS or its contractors. Some of the answers to the questions/data elements on the worksheet are verbally furnished by the IDTF during the site visit; Form Number: CMS-10221 (OCN 0938-1029); Frequency: Occasionally; Affected Public: Private Sector (Business or other for-profits); Number of Respondents: 2,000; Total Annual Responses: 2,000; Total Annual Hours: 4,000. (For policy questions regarding this collection contact Michael Collett at (410) 786-6121. For all other issues call (410) 786-1326.)

3. Type of Information Collection Request: Extension of a currently approved collection; Title of Information Collection: Early Retiree Reinsurance Program Survey of Plan Sponsors; Use: Under the Patient Protection and Affordable Care Act (42 U.S.C. 18002) and implementing regulations at 45 CFR part 149, employment-based plans that offer health coverage to early retirees and their spouses, surviving spouses, and dependents are eligible to receive tax-free reimbursement for a portion of the costs of health benefits provided to such individuals. The statute limits how the reimbursement funds can be used, and requires the Secretary of HHS to develop a mechanism to monitor the appropriate use of such funds. The survey that is the subject of this PRA package is part of that mechanism; Form Number: CMS-10408 (OMB 0938-1150); Frequency: Yearly; Affected Public: Private Sector (Business or other for-profit and Not-for-profit institutions); Number of Respondents: 2,076; Total Responses: 2,076; Total Hours: 22,836. (For policy questions regarding this collection contact David Mlawsky at (410) 786-6851. For all other issues call (410) 786-1326.)

4. Type of Information Collection Request: Extension without change of a currently approved collection; Title of Information Collection: Medicare and Medicaid Programs OASIS Collection Requirements as Part of the CoPs for HHAs and Supp. Regs. in 42 CFR 48.55, 484.205, 484.245, 484.250; Use: This data set is currently mandated for use by Home Health Agencies (HHAs) as a condition of participation (CoP) in the Medicare program. Since 1999, the Medicare CoPs have mandated that HHAs use the OASIS data set when evaluating adult non-maternity patients receiving skilled services. The OASIS is a core standard assessment data set that agencies integrate into their own patient-specific, comprehensive assessment to identify each patient's need for home care that meets the patient's medical, nursing, rehabilitative, social, and discharge planning needs; Form Number: CMS-R-245 (OCN 0938-0760); Frequency: Occasionally; Affected Public: Private Sector (Business or other for-profit and Not-for-profit institutions); Number of Respondents: 11,495; Total Annual Responses: 16,476,008; Total Annual Hours: 16,567,968. (For policy questions regarding this collection contact Robin Dowell at (410) 786-0060. For all other issues call (410) 786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by February 14, 2012:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number ___, Room C4-26-05, 7500 Security Boulevard, Baltimore, Maryland 21244-1850.

Dated: December 9, 2011.
Martique Jones,
Director, Regulations Development Group, Division B, Office of Strategic Operations and Regulatory Affairs.

[FR Doc. 2011-32296 Filed 12-15-11; 8:45 am]

BILLING CODE 4120-01-P